ENVIRONMENTAL PROTECTION AGENCY

[FRL-6988-6]

Extension of Comment Period for the Preliminary Administrative Determination Document on the Question of Whether Ferric Ferrocyanide Is One of the “Cyanides” Within the Meaning of the List of Toxic Pollutants Under the Clean Water Act

AGENCY: Environmental Protection Agency (EPA).

ACTION: Notice; extension of comment period.

SUMMARY: The comment period for the preliminary administrative determination document on the question of whether ferric ferrocyanide is one of the “cyanides” within the meaning of the list of toxic pollutants under the Clean Water Act was scheduled to end on June 10, 2001. The comment period will now end 30 days later on July 10, 2001. The notice announcing document availability was published in the Federal Register on January 25, 2001 (66 FR 7759). A notice reopening the comment period until June 10, 2001 was published in the Federal Register on March 13, 2001 (66 FR 14581).

DATES: Comments will be accepted through July 10, 2001.

ADDRESSES: Send written comments to “Ferric Ferrocyanide; Preliminary Administrative Determination” Comment Clerk (W-00-24); Water Docket (4101); U. S. Environmental Protection Agency; Ariel Rios Building; 1200 Pennsylvania Avenue, NW., Washington, DC 20460. Hand deliveries should be delivered to: EPA's Water Docket at 401 M Street, SW., East Tower Basement (Room EB 57), Washington, DC 20460. If you wish to hand-deliver your comments, please call (202) 260-3027 between 9 a.m. and 4 p.m., Monday through Friday, excluding Federal holidays, to obtain the room location for the Docket. Commenters are requested to submit any references cited in their comments. Commenters also are requested to submit an original and three copies of their written comments and enclosures. Commenters that want a confirmed receipt of their comments should include a self-addressed, stamped envelope. All comments must be postmarked or delivered by hand. No facsimiles (faxes) will be accepted.

Comments also may be submitted electronically to: OW-Docket@epa.gov. Electronic comments must be submitted as a Word Perfect for Windows 5/6/7/8 file or an ASCII file, avoiding the use of special characters and any form of encryption. Comments and data also will be accepted on disks in Word Perfect 5/6/7/8 or ASCII file format. Electronic comments on this notice may be filed online at many Federal Depository Libraries. All electronic comments must be identified by docket number. Electronic comments will be transferred into a paper version for the official record. EPA will attempt to clarify electronic comments if there is an apparent error in transmission.

A docket for this preliminary administrative determination has been established under docket number W-00-24. A copy of the supporting documents cited in this document are available for review at EPA's Water Docket. These documents are available for inspection from 9 a.m. to 4 p.m. EST, Monday through Friday, excluding Federal holidays at EPA's Water Docket, 401 M Street SW., East Tower Basement (Room EB 57), Washington, DC 20460. For access to docket materials, please call (202) 260-3027 to schedule an appointment.

FOR FURTHER INFORMATION CONTACT: For further information and to request a copy of the administrative determination, contact Dr. Maria Gomez-Taylor, USEPA, Engineering and Analysis Division (4303), Office of Science and Technology, Ariel Rios Building, 1200 Pennsylvania Avenue, NW., Washington, DC 20460; or call (202) 260-1639; or fax (202) 260-7185; or e-mail gomez-taylor.maria@epa.gov.

SUPPLEMENTARY INFORMATION: On January 25, 2001, EPA published in the Federal Register (66 FR 7759) a notice announcing availability of the preliminary administrative determination document and a public comment period that was scheduled to end on March 12, 2001. EPA received requests for additional time to provide comments. EPA reopened the comment period for an additional 90 days on March 13, 2001 (66 FR 14581). Recently, EPA received another request for an additional 30 days to comment on the preliminary administrative determination document. This action extends the comment period for an additional 30 days, from June 10, 2001 to July 10, 2001, for a total of five-and-a-half months.

Dated: May 23, 2001.
Diane C. Regas,
Acting Assistant Administrator for Water.

[FR Doc. 01-13844 Filed 5-31-01; 8:45 am]

BILLING CODE 6560-50-U